DEPARTMENT OF COMMERCE

National Oceanic and Atmospheric Administration

Climate Change Science Program (CCSP) Product Development Committee (CPDC) for Synthesis and Assessment Product 5.3

AGENCY: Office of Oceanic and Atmospheric Research (OAR), National Oceanic and Atmospheric Administration (NOAA), Department of Commerce (DOC).

ACTION: Notice of open meeting.

SUMMARY: The Climate Change Science Program (CCSP) Product Development Committee for Synthesis and Assessment Product 5.3 (CPDC—S&A 5.3) was established by Charter on October 12, 2006. CPDC—S&A 5.3 is the Federal Advisory Committee charged with responsibility to develop a draft Synthesis and Assessment Product that addresses CCSP Topic 5.3: “Decision-Support Experiments and Evaluations Using Seasonal to Interannual Forecasts and Observational Data”.

Time and Date: The meeting will be held Monday, January 8, 2007—Wednesday, January 10, 2007. This time and the agenda topics described below are subject to change. Refer to the Web page http://www.climate.noaa.gov/index.jsp?pg=./ccsp/53.jsp for the most up-to-date meeting agenda.

Place: The meeting will be held at the Latham Hotel, 3000 M Street, NW., Washington, DC 20007. Please contact Dr. Nancy Beller-Simms for further information (contact information follows).

Status: The meeting will be open to public participation with a public comment period on January 9, at 9 a.m. (times are dependent on number of participants, check Web site to confirm this time). In general, each individual or group making a verbal presentation will be limited to a total time of five (5) minutes. Written comments (at least 35 copies) should be received by the CPDC—S&A 5.3 Designated Federal Official by December 27, 2006 to provide sufficient time for review. Written comments received after that date will be distributed to the CPDC—S&A 5.3, but may not be reviewed prior to the meeting date.

Matters to be Considered: The meeting will include, but not be limited to, the following topics: (1) Decision-support experiments within the water resource management sector as described in the Product Prospectus; (2) Discussion of procedures and a timeline for completion of the first draft of the Synthesis and Assessment Product 5.3; and (3) Discussion of plans for completion and submission of future drafts and procedures.

FOR FURTHER INFORMATION CONTACT: Dr. Nancy Beller-Simms, Designated Federal Official, CPDC—S&A 5.3 (NOAA Climate Program Office, 1315 East West Highway, Room 12221, Silver Spring, Maryland 20910. Phone: 301-734-1205, Fax: 301-713-0518, E-mail: Nancy.Beller-Simms@noaa.gov) or visit the Web site at http://www.climate.noaa.gov/index.jsp?pg=./ccsp/53.jsp.

Dated: December 12, 2006.
Mark E. Brown,
Chief Financial Officer, Office of Oceanic and Atmospheric Research, National Oceanic and Atmospheric Administration.

[FR Doc. 06-9734 Filed 12-15-06; 8:45 am]

BILLING CODE 3510-KB-P